ENVIRONMENTAL PROTECTION AGENCY

[EPA-HQ-OAR-2004-0489; FRL-9984-88-OEI]

Information Collection Request Submitted to OMB for Review and Approval; Comment Request; Air Emissions Reporting Requirements (AERR) (Renewal)

AGENCY: Environmental Protection Agency (EPA).

ACTION: Notice.

SUMMARY: The Environmental Protection Agency (EPA) has submitted an information collection request (ICR), Air Emissions Reporting Requirements (AERR) (EPA ICR No. 2170.07, OMB Control No. 2060-0580) to the Office of Management and Budget (OMB) for review and approval in accordance with the Paperwork Reduction Act. This is a proposed extension of the ICR, which is currently approved through December 31, 2018. Public comments were previously requested via the Federal Register on July 10, 2018, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 30, 2018.

ADDRESSES: Submit your comments, referencing Docket ID Number EPA-HQ-OAR-2004-0489, to (1) EPA online using www.regulations.gov (our preferred method) or by mail to: EPA Docket Center, Environmental Protection Agency, Mail Code 28221T, 1200 Pennsylvania Ave. NW, Washington, DC 20460, and (2) OMB via email to oira_submission@omb.eop.gov. Address comments to OMB Desk Officer for EPA.

The EPA's policy is that all comments received will be included in the public docket without change including any personal information provided, unless the comment includes profanity, threats, information claimed to be Confidential Business Information (CBI) or other information whose disclosure is restricted by statute.

FOR FURTHER INFORMATION CONTACT: Marc Houyoux, Air Quality Assessment Division, Office of Air Quality Planning and Standards, (C339-02), Environmental Protection Agency, 109 TW Alexander Drive, RTP, NC 27711; telephone number: (919) 541-3649; email address: houyoux.marc@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is (202) 566-1744. For additional information about EPA's public docket, visit http://www.epa.gov/dockets.

Abstract: The EPA promulgated the Air Emissions Reporting Requirements (AERR) (40 CFR part 51, subpart A) to coordinate emissions inventory reporting requirements with existing requirements of the Clean Air Act and 1990 Amendments. Under this reporting, 55 state and territorial air quality agencies, including the District of Columbia, as well as an estimated 20 local air quality agencies, must submit emissions data every 3 years for all point, non-point, on-road mobile, and non-road mobile sources of volatile organic compounds, oxides of nitrogen, carbon monoxide, sulfur dioxide, particulate matter less than or equal to 10 micrometers in diameter, particulate matter less than or equal to 2.5 micrometers in diameter, ammonia, and lead. In addition, the air quality agencies must submit annually emission data for point sources with the potential to emit at greater than specified levels of those pollutants.

The data supplied to the emission reporting requirement is needed so that the EPA can compile and make available a national inventory of air pollutant emissions. A comprehensive inventory updated at regular intervals is essential to allow the EPA to fulfill its mandate to monitor and plan for the attainment and maintenance of the national ambient air quality standards established for criteria pollutants.

Form Numbers: None.

Respondents/affected entities: State, territorial and local government air quality managements programs. Tribal governments are not affected unless they have sought and obtained treatment as state status under the Tribal Authority Rule and on that basis, are authorized to implement and enforce the AERR rule.

Respondent's obligation to respond: Mandatory under 23 U.S.C. 101; 42 U.S.C 7401-7671q, and the authority of the AERR.

Estimated number of respondents: 75 (total).

Frequency of response: Annual.

Total estimated burden: 47,248 hours (per year). Burden is defined at 5 CFR 1320.03(b).

Total estimated cost: $4,513,390 (per year), includes $225,000 annualized capital or operation & maintenance costs.

Changes in the Estimates: Change in hours/cost is due to the reduction of the total estimated respondents from the ICR currently approved by OMB.

Courtney Kerwin,
Director, Regulatory Support Division.

[FR Doc. 2018-23745 Filed 10-30-18; 8:45 am]

BILLING CODE 6560-50-P